DEPARTMENT OF COMMERCE

Patent and Trademark Office

Proposed Collection; Comment Request

ACTION: Notice.

SUMMARY: The United States Patent and Trademark Office (USPTO), as part of its continuing effort to reduce paperwork and respondent burden, invites the general public and other Federal agencies to take this opportunity to comment on the continuing information collection, as required by the Paperwork Reduction Act of 1995, Public Law 104-13 (44 U.S.C. 3506(c)(2)(A)).

DATES: Written comments must be submitted on or before November 3, 2014.

ADDRESSES: You may submit comments by any of the following methods:

• Email: InformationCollection@uspto.gov. Include “0651-New comment” in the subject line of the message.

• Mail: Marcie Lovett, Records Officer, United States Patent and Trademark Office, P.O. Box 1450, Alexandria, VA 22313-1450.

• Federal Rulemaking Portal: http://www.regulations.gov.

FOR FURTHER INFORMATION CONTACT: Requests for additional information should be directed to the attention of Michael Easdale, Office of Patent Quality Assurance, United States Patent and Trademark Office, P.O. Box 1450, Alexandria, VA 22313-1450; by telephone at 571-272-3533; or by email to Michael.Easdale@uspto.gov with “Paperwork” in the subject line.

SUPPLEMENTARY INFORMATION

I. Abstract

The United States Patent and Trademark Office (USPTO) designed and developed the Patents Ombudsman Program in response to customer feedback that the prosecution of patent applications does not always proceed in accordance with established procedures. In some situations, the patent applicants, attorneys, and agents have felt that examination has stalled and their efforts to move their applications forward through the normal channels have not been effective. The objectives of the Patents Ombudsman Program are: (1) To facilitate complaint-handling for pro se applicants and applicant's representatives whose applications have stalled in the examination process; (2) to track complaints to ensure each is handled within ten business days; (3) to provide feedback and early warning alerts to USPTO management regarding training needs based on complaint trends; and (4) to build a database of frequently asked questions accessible to the public that give commonly seen problems and effective resolutions.

The USPTO Ombudsman survey is a key component of the process evaluation, providing a program monitoring system and identifying potential opportunities for program enhancement. This survey is being conducted by the USPTO's Ombudsman Program and will be developed, administered, and summarized by USPTO personnel. A survey is the only way the USPTO can gain consistent, reliable, and representative information from the customers choosing to use the Ombudsman Program.

There are no statutes or regulations requiring the USPTO to conduct this usage and satisfaction measurement. The USPTO will use the survey instrument to implement Executive Order 12862 of September 11, 1993, Setting Customer Service Standards, published in the Federal Register on September 14, 1993 (Vol. 58, No. 176).

II. Method of Collection

Electronic email submission to the USPTO.

III. Data

OMB Number: 0651—New.

Form Number(s): No form numbers.

Type of Review: New collection.

Affected Public: Individuals or households; businesses or other for-profits; and not-for-profit institutions.

Estimated Number of Respondents: 1,100 responses per year. A final respondent pool from approximately 3,000 inquiries would likely be around 1,800 unique customers. Assuming a 60% response rate, 1,100 of the 1,800 unique users will respond which should ensure adequate representation across all Technology Centers.

Estimated Time per Response: The USPTO estimates that it will take the public approximately 5 minutes (.083 hours) to submit the information in this collection, including the time to gather the necessary information, prepare the appropriate form or document, and submit the completed request to the USPTO.

Estimated Total Annual Respondent Burden Hours: 91.67 hours.

Estimated Total Annual Respondent Cost Burden: $29,608.33. The USPTO believes that both professionals and para-professionals will complete these surveys, at a rate of 75% of the current professional rate of $389 per hour and 25% of the para-professional rate of $125 per hour. The professional hourly rate used for the calculation is the median rate for attorneys in private firms as published in the 2013 AIPLA Economic Survey. This report summarized the results of a survey with data on hourly billing rates. The para-professional hourly rate comes from 2013 report published by the National Association of Legal Assistants.

The hourly rate for professionals, calculating 75% of $389, totals $291.75, while the hourly rate for the para-professionals, calculating 25% of $125, totals $31.25, for a combined hourly rate of $323. The USPTO estimates that the respondent cost burden for this collection will be $29,608.33 per year (1,100 responses * .083 hours * $323).

Item | Estimated time for response (minutes) | Estimated annual responses | Estimated annual burden hours
Ombudsman Survey | 5 | 1,100 | 91.67
Totals |  | 1,100 | 91.67

Estimated Total Annual Non-Hour Respondent Cost Burden: $0. There are no capital start-up, maintenance, postage, or recordkeeping costs associated with this information collection.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: August 27, 2014.
Marcie Lovett,
Records Officer, USPTO, Office of the Chief Information Officer, United States Patent and Trademark Office.

[FR Doc. 2014-21048 Filed 9-3-14; 8:45 am]

BILLING CODE 3510-16-P